DEPARTMENT OF THE INTERIOR

National Park Service

Notice of Intent to Prepare an Environmental Impact Statement for the General Management Plan for the Buck Island Reef National Monument

AGENCY: National Park Service, Interior.

SUMMARY: Notice is hereby given that in accordance with the National Environmental Policy Act of 1969, the U.S. Department of the Interior, National Park Service will prepare an Environmental Impact Statement on the General Management Plan for the Buck Island Reef National Monument. The statement will assess potential environmental impacts associated with various types and levels of visitor use and resources management within the park boundary. Specific issues to be addressed include appropriate levels and types of visitor use in the park, desired conditions for the National Monument's cultural and natural resources, and strategies and approaches needed to achieve and maintain those conditions. In cooperation with local, territory, and other federal agencies, attention will also be given to cooperative management of resources outside the boundaries that affect the integrity of Buck Island Reef National Monument.

DATES: Locations, dates, and times of scheduled public scoping meetings will be published in local newspapers and posted in local libraries. Information on scheduled meetings may also be obtained by contacting the Superintendent, Buck Island Reef National Monument, telephone (340) 773-1460. The purpose of the scoping process is to elicit public comment regarding the full spectrum of public issues and concerns. Representatives of the National Park Service will be available to discuss issues, resource concerns, and the planning process for the GMP and EIS at each of the public meetings.

ADDRESSES: Any comments or requests for information should be addressed to: Superintendent, Buck Island Reef National Monument, Danish Customs House, Kings Wharf, 2100 Church St. #100, Christiansted, Virgin Islands 00820-4611, Telephone: (340) 773-1460.

FOR FURTHER INFORMATION CONTACT: John Barrett, National Park Service, Southeast Regional Office, (404) 562-3124, extension. 637 or Joel Tutein, Superintendent, Buck Island Reef National Monument, (340) 773-1460.

SUPPLEMENTARY INFORMATION: Buck Island Reef National Monument was created to preserve one of the finest marine gardens in the Caribbean Sea. The elkhorn coral barrier reef that surrounds two-thirds of the island has extraordinary coral formations, deep grottoes, abundant reef fishes, sea fans, and sea turtles. The park boundary was expanded in 2001 to include additional coral reefs, barrier reefs, sea grass beds, and sand communities, as well as other habitats not included within the initial boundary. The expansion area also contains significant cultural resources, including the remnants of several shipwrecks. The island, which has an overland nature trail and white coral sand beaches, is a rookery for endangered brown pelicans and a nesting area for three species of sea turtles. Buck Island Reef supports one of the last remaining protected nesting populations of endangered hawksbill sea turtles in the eastern Caribbean. Visitors to the park can enjoy an extraordinary array of marine life and tropical flora and fauna, and various water recreational opportunities in the crystal clear waters around the reef.

This planning effort will evaluate a range of alternative methods to provide a quality visitor experience while maximizing protection of resources and operational efficiency. Public documents associated with the planning effort, including all newsletters, will be posted on the Internet through the park's Web site at http://www.nps.gov/buis.

Our practice is to make the public comments we receive in response to planning documents, including names and home addresses of respondents, available for public review during regular business hours. If you wish for us to withhold your name and/or address, you must state this prominently at the beginning of your comment. Anonymous comments will be included in the public record. However, the National Park Service is not legally required to consider or respond to anonymous comments. We will make all submissions from organizations or businesses, and from individuals identifying themselves as representatives or officials of organizations or businesses, available for public inspection in their entirety.

The draft and final environmental impact statement will be distributed to all known interested parties and appropriate agencies. Full public participation by federal, territory, and local agencies as well as other concerned organizations and private citizens is invited throughout the preparation process of this document.

The responsible official for this environmental impact statement is Regional Director, National Park Service, Southeast Region, 100 Alabama Street SW., Atlanta, Georgia 30303.

Dated: December 11, 2002.
W. Thomas Brown,
Acting Regional Director, Southeast Region.

[FR Doc. 03-4811 Filed 2-27-03; 8:45 am]

BILLING CODE 4310-70-P